DEPARTMENT OF TRANSPORTATION

Federal Railroad Administration

[Docket Number FRA-2016-0046]

Petition for Waiver of Compliance

In accordance with part 211 of title 49 Code of Federal Regulations (CFR), this document provides the public notice that by a document dated April 28, 2016, Union Railroad (UR) petitioned the Federal Railroad Administration (FRA) for renewal of a waiver of compliance from certain provisions of the Federal railroad safety regulations contained at 49 CFR part 229—Railroad Locomotive Safety Standards. This regulatory relief was initially granted by FRA in 1980 and is due to expire in 2017 under the “sunset clause” added to 49 CFR 229.19—Prior waivers, in 2012. This relief was formerly handled under Docket Number LI-80-24; however FRA has updated the docket numbering system and assigned this petition Docket Number FRA-2016-0046.

The waiver in Docket Number LI-80-24 granted UR relief from the requirement of 49 CFR 229.123—Pilots, snowplows, end plates, that locomotives be equipped with a pilot, snowplow, or end plate extending across both rails for 121 locomotives, 32 of which remain in service. These locomotives are not equipped with a pilot, snowplow, or end plate but have hose boxes or brackets above the rails with open space between. UR states that these locomotives operate over yard and mainline track, within and between three steel mills. The total track length of UR is 20 miles, with three public grade crossings (two with gates and flashers, one with flashers only) and trains are limited to 20 mph. UR reports that there have been no known safety-related incidents or operating difficulties associated with this waiver.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 27, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-11216 Filed 5-11-16; 8:45 am]

BILLING CODE 4910-06-P